DEPARTMENT OF THE INTERIOR

Fish and Wildlife Service

[FWS-HQ-NWRS-2024-N070; FXRS12630900000-256-FF09R81000; OMB Control Number 1018-0102]

Agency Information Collection Activities; Submission to the Office of Management and Budget; National Wildlife Refuge Special Use Permit Applications and Reports

AGENCY: Fish and Wildlife Service, Interior.

ACTION: Notice of information collection; request for comment.

SUMMARY: In accordance with the Paperwork Reduction Act of 1995, we, the U.S. Fish and Wildlife Service (Service), are proposing to revise an existing collection of information.

DATES: Interested persons are invited to submit comments on or before February 18, 2025.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0102” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On August 14, 2024, we published in the Federal Register (89 FR 66133) a notice of our intent to request that OMB approve this information collection. In that notice, we solicited comments for 60 days, ending on October 15, 2024. The Service also published the Federal Register notice on Regulations.gov (Docket No. FWS-HQ-NWRS-2024-0094) to provide the public with an additional method to submit comments (in addition to the typical U.S. mail submission method). We received five comments in response to that notice; however, four of the comments did not address the information collection requirements. The following comment did address the information collection requirements:

Comment: Anonymous electronic comment received on September 15, 2024, via Regulations.gov (FWS-HQ-NWRS-2024-0094-0011). The commenter states that FWS policy 620 FW 2.4D describes a cooperative agreement relationship between the Service and agricultural cooperators. This same policy states that Form 3-1383-C must be used to document these agreements. This form is legally insufficient as an instrument by which to administer cooperative agreements as described in the Federal Grant and Cooperative Agreement Act of 1977 (31 U.S.C. 6301-08).

Agency Response to Comment: The purpose of Form 3-1383C is not to document financial assistance agreements such as cooperative agreements described in 31 U.S.C. 6301-08. Service policy 620 FW 2.2E states that cooperative agriculture agreements are not financial assistance awards and are not subject to the regulations in 2 CFR part 200. Certain agricultural uses are permitted on Service property through Form 3-1383C, as described in this docket. Activities such as cooperative agricultural uses are permitted under the authority described in 16 U.S.C. 668dd, so no further changes to the form will be made as part of this revision.

As part of our continuing effort to reduce paperwork and respondent burdens, we are again soliciting comments from the public and other Federal agencies on the proposed information collection request (ICR) that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The National Wildlife Refuge System Administration Act of 1966 (Administration Act; 16 U.S.C. 668dd-668ee), as amended by the National Wildlife Refuge System Improvement Act of 1997, consolidated all refuge units into a single National Wildlife Refuge System (system). It also authorized us to offer visitor and public programs, including those facilitated by commercial visitor and management support services, on lands of the system when we find that the activities are appropriate and compatible with the purpose(s) for which the refuge was established and the system's mission. The Refuge Recreation Act of 1962 (Recreation Act; 16 U.S.C. 460k-460k-4) allows the use of refuges for public recreation when it is not inconsistent with or does not interfere with the primary purpose(s) of the refuge. The Alaska National Interest Lands Conservation Act (ANILCA; 16 U.S.C. 3101 et seq.) provides specific authorization and guidance for the administration and management of national wildlife refuges within the State of Alaska. Its provisions provide for the issuance of permits under certain circumstances.

We issue special use permits for a specific period as determined by the type and location of the management activity or visitor service provided. These permits authorize activities such as:

• Agricultural activities (haying and grazing, 50 CFR 29.1 and 50 CFR 29.2).

• Beneficial management tools that we use to provide the best habitat possible on some refuges (50 CFR 30.11, 50 CFR 31.14, 50 CFR 31.16, and 50 CFR 36.41).

• Special events, group visits, and other one-time events (50 CFR 25.41, 50 CFR 25.61, 50 CFR 26.36, and 50 CFR 36.41).

• Recreational visitor service operations (50 CFR 25.41, 50 CFR 25.61, and 50 CFR 36.41).

• Guiding for fishing, hunting, wildlife education, and interpretation (50 CFR 25.41 and 50 CFR 36.41).

• Commercial filming (43 CFR 5, 50 CFR 27.71) and other commercial activities (50 CFR 29.1 and 50 CFR 36.41).

• Building and using cabins to support subsistence or commercial activities (in Alaska) (50 CFR 26.35 and 50 CFR 36.41).

• Research, inventory and monitoring, and other noncommercial activities (50 CFR 26.36 and 50 CFR 36.41).

We currently use three types of special use permits to collect applicant information:

• Form 3-1383-G (General Activities Special Use Permit Application);

• Form 3-1383-C (Commercial Activities Special Use Permit Application); and

• Form 3-1383-R (Research and Monitoring Special Use Permit Application).

The information we collect helps ensure that:

• applicants are aware of the types of information that may be needed for permit issuance;

• requested activities are appropriate and compatible with the purpose(s) for which the refuge was established and the system's mission; and

• the applicant is eligible or is the most qualified applicant to receive the special use permit.

We may collect the necessary information in a non-form format (through discussions in person or over the phone, over the internet, by email, or by letter). In some instances, respondents will be able to provide information verbally. Often, a simple email or letter describing the activity will suffice. For activities that might have a large impact on refuge resources (e.g., commercial visitor services, research, etc.), we may require applicants to provide more detail on operations, techniques, and locations. Because of the range of activities covered by special use permits and the different management needs and resources at each refuge, respondents may not be required to answer all questions. Depending on the requested activity, refuge managers have the discretion to ask for less information than appears on the forms. However, refuge managers must not ask for more or different information.

We issue permits for a specific period as determined by the type and location of the use or service provided. We use these permits to ensure that the applicant is aware of the requirements of the permit and the permit holder's legal rights. Refuge-specific special conditions may be required for the permit. We identify conditions as an addendum to the permit. Most of the special conditions pertain to how a permitted activity may be conducted and do not require the collection of information. However, some special conditions, such as activity reports, before and after site photographs, or data sharing, would qualify as an information collection, and we have included the associated burden below.

We also use FWS Form 3-1384, “Bid Sheet—National Wildlife Refuge System,” to streamline collection of the necessary pre-award information from applicants during bidding processes to conduct economic uses on Service lands, such as grazing livestock, harvesting hay and stock feed, or removing timber (50 CFR 29.21). This form simplifies the pre-award selection/bidding process for bidders and for refuge staff by enabling them to understand what information the refuge needs in order to select bids for economic use, and, therefore, reduces the time and burden for the public and Service staff in the pre-award selection bidding process. This form is customizable to the individual economic use being awarded. We will use the Commercial Special Use Permit (FWS Form 3-1383-C) as the actual award document that will outline the terms and conditions of the economic use on Service lands.

Proposed Revisions to This Information Collection

With this submission, we propose to revise OMB Control No. 1018-0102 as follows:

1. With this submission, we propose to add an additional form, Form 3-1383-EZ, General Activities Special Use Permit Simplified Application, which is a simplified version of 3-1383-G, General Activities Special Use Permit Application. The intent of this form is to provide a less intimidating and less intensive application for individuals wishing to engage in common, non-economic activities such as recreational berry picking or boat mooring.

We expect this optional “EZ” form will reduce public burden, because, filling out form 3-1383-G, applicants will often consider even questions that are not relevant to them in order to determine whether a response is warranted. Our staff will have the option to offer this form after an initial request is received if the majority of questions on the full 1383-G form are expected to be left blank.

Finally, there are no new questions on this new form. We pulled the questions on the streamlined Form 3-1383-EZ from the currently approved Form 3-1383-G. It simply asks fewer questions than the regular Form 3-1383-G in order to reduce burden on respondents, where appropriate.

2. We are making alterations to the options available to select on question 13a in Form 3-1383-C, Commercial Activities Special Use Permit Application. Some of the existing options are rarely selected and certain types of activity are often entered as “Other.” We are adding some of these common activities in an effort to streamline completion of the form and collection of the activity type.

Specifically, Form 3-1383-C includes an option for mineral lease that is rarely used. We propose to strike that option and add an option for food and beverage vendors such as food trucks. We propose to change “Recreation Events ” to “Events” to make it more broadly applicable. We also propose to remove “Cabins” and add “Fishing/Frogging” to cover these types of commercial use.

On Form 3-1383-C, we also propose to modify the wording of question 14 to clarify the requested information. The present wording often leads to an answer which provides only a portion of the timing information that we require. The new question is worded, “Describe the specific dates, times, and frequency of activities. Provide an occupancy timeline showing how the activity is expected to proceed.”

We highlighted the updated fields on the Form 3-1383-C uploaded to the ICR posted to https://www.reginfo.gov/public/do/PRAMain.

3. Non-substantive changes are being made to Forms 3-1383-G, 3-1383-R, or 3-3-1384; however, we plan to make minor updates to the forms' layout to improve readability and functionality. The order of questions will be altered to improve the flow, keeping related questions together. In some cases, selection boxes come after an option and in other cases the boxes come before; we will make the presentation consistent. We are also updating the forms to be more consistent with other DOI forms.

Title of Collection: National Wildlife Refuge Special Use Permit Applications and Reports, 50 CFR 25, 26, 27, 29, 30, 31, 32, 36, and 43 CFR 5.

OMB Control Number: 1018-0102.

Form Numbers: 3-1383-EZ, 3-1383-G, 3-1383-C, 3-1383-R, and 3-1384.

Type of Review: Revision of a currently approved collection.

Respondents/Affected Public: Individuals and households; businesses and other for-profit organizations; nonprofit organizations; farms; and State, local, or Tribal governments.

Total Estimated Number of Annual Respondents: 14,511.

Total Estimated Number of Annual Responses: 14,511.

Estimated Completion Time per Response: Varies from 10 minutes to 5 hours, depending on activity.

Total Estimated Number of Annual Burden Hours: 22,495.

Respondent's Obligation: Required to obtain or retain a benefit.

Frequency of Collection: On occasion for applications; annually or on occasion for reports.

Total Estimated Annual Nonhour Burden Cost: $370,100 for fees associated with applications for commercial use activities ($100.00 per application for individuals and private sector respondents only).

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2025-01089 Filed 1-16-25; 8:45 am]

BILLING CODE 4333-15-P